FEDERAL COMMUNICATIONS COMMISSION

47 CFR Part 73

[DA 04-1077; MB Docket No. 04-162, RM-10959]

Radio Broadcasting Services; Iowa Park and Quanah, TX

AGENCY: Federal Communications Commission.

ACTION: Proposed rule.

SUMMARY: This document sets forth a proposal to amend the FM Table of Allotments, §73.202(b) of the Commission's rules, 47 CFR 73.202(b). The Commission requests comment on a petition filed by KIXC-FM, L.L.C., licensee of Station KIXC-FM, Channel 265C3, Quanah, Texas. Petitioner proposes to delete Channel 265C3 at Quanah, Texas, to allot Channel 265C3 at Iowa Park, Texas, and to modify the license of Station KIXC-FM accordingly. Channel 265C3 can be allotted to Iowa Park in compliance with the Commission's minimum distance separation requirements with a site restriction of 15.3 km (9.5 miles) southwest of Iowa Park. The coordinates for Channel 265C3 at Iowa Park are 33-53-55 North Latitude and 98-49-16 West Longitude. See Supplementary Information infra.

DATES: Comments must be filed on or before June 18, 2004, and reply comments on or before July 5, 2004.

ADDRESSES: Federal Communications Commission, Washington, DC 20554. In addition to filing comments with the FCC, interested parties should serve the petitioner as follows: Fred R. Morton, Manager, KIXC-FM, L.L.C., 67 Legend Lane, Houston, Texas 77024.

FOR FURTHER INFORMATION CONTACT: Deborah A. Dupont, Media Bureau (202) 418-7072.

SUPPLEMENTARY INFORMATION: This is a synopsis of the Commission's Notice of Proposed Rule Making, MB Docket No. 04-162, adopted April 22, 2004 and released April 27, 2004. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20554, telephone (202) 863-2893.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Texas, is amended by adding Channel 265C3 at Iowa Park and by removing Quanah, Channel 265C3.

Federal Communications Commission.
John A. Karousos,
Assistant Chief, Audio Division, Media Bureau.

[FR Doc. 04-11547 Filed 5-20-04; 8:45 am]

BILLING CODE 6712-01-P